DEPARTMENT OF ENERGY

Federal Energy Regulatory Commission

Combined Notice of Filings No. 1

July 21, 2009.

Take notice that the Commission has received the following Natural Gas Pipeline Rate and Refund Report filings:

Docket Numbers: RP09-830-000.

Applicants: Transcontinental Gas Pipe Line Company.

Description: Report of July 14, 2009 Dominion flow through refund to Transcontinental Gas Pipeline Company LLC Rate Schedules GSS and LSS.

Filed Date: 07/15/2009.

Accession Number: 20090715-5148.

Comment Date: 5 p.m. Eastern Time on Monday, July 27, 2009.

Docket Numbers: RP09-831-000.

Applicants: Trailblazer Pipeline Company LLC.

Description: Trailblazer Pipeline Company LLC submits report on the refund of penalty revenues to FERC Gas Tariff, Fourth Revised Volume 1.

Filed Date: 07/17/2009.

Accession Number: 20090720-0003.

Comment Date: 5 p.m. Eastern Time on Wednesday, July 29, 2009.

Docket Numbers: RP09-832-000.

Applicants: Granite State Gas Transmission, Inc.

Description: Granite State Gas Transmission, Inc submits Sixteenth Revised Sheet 289 et al. to FERC Gas Tariff, Third Revised Volume 1, to be effective 8/1/09.

Filed Date: 07/17/2009.

Accession Number: 20090720-0002.

Comment Date: 5 p.m. Eastern Time on Wednesday, July 29, 2009.

Docket Numbers: RP09-833-000.

Applicants: Viking Gas Transmission Company.

Description: Viking Gas Transmission Company submits First Revised Sheet 871.02 to FERC Gas Tariff, First Revised Volume 1, to be effective 7/17/09.

Filed Date: 07/17/2009.

Accession Number: 20090720-0027.

Comment Date: 5 p.m. Eastern Time on Wednesday, July 29, 2009.

Docket Numbers: RP09-834-000.

Applicants: Texas Eastern Transmission LP, Algonquin Gas Transmission, LLC, Maritimes & Northeast Pipeline, LLC, East Tennessee Natural Gas, LLC, Egan Hub Storage, LLC, Moss Bluff Hub, LLC, Saltville Gas Storage Company LLC, Southeast Supply Header, LLC, Steckman Ridge, LP.

Description: Texas Eastern Transmission, LP et al request for temporary waivers of certain tariff provision, NAESB Standards and Regulations Due to LInk Outages Associated with the Performance of System Maintenance.

Filed Date: 07/17/2009.

Accession Number: 20090720-0103.

Comment Date: 5 p.m. Eastern Time on Wednesday, July 29, 2009.

Docket Numbers: RP09-835-000.

Applicants: TransColorado Gas Transmission Company.

Description: TransColorado Gas Transmission Company, LLC submits First Revised Sheet 208 et al. to its FERC Gas Tariff, First Revised Volume 1, to be effective 8/20/09.

Filed Date: 07/20/2009.

Accession Number: 20090720-0216.

Comment Date: 5 p.m. Eastern Time on Monday, August 03, 2009.

Docket Numbers: RP09-836-000.

Applicants: Kern River Gas Transmission Company.

Description: Kern River Gas Transmission Company submits First Revised Sheet 492 to its FERC Gas Tariff, Second Revised Volume 1, to be effective 8/19/09.

Filed Date: 07/20/2009.

Accession Number: 20090720-0215.

Comment Date: 5 p.m. Eastern Time on Monday, August 03, 2009.

Docket Numbers: RP09-837-000.

Applicants: Cheyenne Plains Gas Pipeline Company, LLC.

Description: Cheyenne Plains Gas Pipeline Company, LLC submits First Revised Sheet 278 to its FERC Gas Tariff, Original Volume 1, to be effective 8/20/09.

Filed Date: 07/20/2009.

Accession Number: 20090720-0214.

Comment Date: 5 p.m. Eastern Time on Monday, August 03, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-18103 Filed 7-29-09; 8:45 am]

BILLING CODE 6717-01-P